DEPARTMENT OF TRANSPORTATION

Federal Aviation Administration

14 CFR Part 39

[Docket No. FAA-2013-0884; Directorate Identifier 2013-NE-31-AD; Amendment 39-17829; AD 2014-08-05]

RIN 2120-AA64

Airworthiness Directives; Rolls-Royce Deutschland Ltd & Co KG Turbofan Engines

AGENCY: Federal Aviation Administration (FAA), DOT.

ACTION: Final rule.

SUMMARY: We are adopting a new airworthiness directive (AD) for all Rolls-Royce Deutschland Ltd & Co KG (RRD) BR700-715A1-30, BR700-715B1-30, and BR700-715C1-30 turbofan engines. This AD requires replacement of the low-pressure compressor (LPC) case ice impact panels. This AD was prompted by a report of a partial de-bonding of the LPC case ice impact panels during an engine shop visit. We are issuing this AD to prevent failure of the LPC case ice impact panels, which could result in damage to the engine and loss of control of the airplane.

DATES: This AD becomes effective May 23, 2014.

ADDRESSES: The Docket Operations office is located at Docket Management Facility, U.S. Department of Transportation, 1200 New Jersey Avenue SE., West Building Ground Floor, Room W12-140, Washington, DC 20590-0001.

Examining the AD Docket

You may examine the AD docket on the Internet at http://www.regulations.gov by searching for and locating Docket No. FAA-2013-0884; or in person at the Docket Operations office between 9 a.m. and 5 p.m., Monday through Friday, except Federal holidays. The AD docket contains this AD, the mandatory continuing airworthiness information (MCAI), the regulatory evaluation, any comments received, and other information. The street address for the Docket Operations office (phone: 800-647-5527) is provided in the ADDRESSES section. Comments will be available in the AD docket shortly after receipt.

FOR FURTHER INFORMATION CONTACT: Rose Len, Aerospace Engineer, Engine Certification Office, FAA, Engine & Propeller Directorate, 12 New England Executive Park, Burlington, MA 01803; phone: 781-238-7772; fax: 781-238-7199; email: rose.len@faa.gov.

SUPPLEMENTARY INFORMATION:

Discussion

We issued a notice of proposed rulemaking (NPRM) to amend 14 CFR part 39 by adding an AD that would apply to the specified products. The NPRM was published in the Federal Register on December 23, 2013 (78 FR 77382). The NPRM proposed to correct an unsafe condition for the specified products. The MCAI states:

Partial de-bonding of the low-pressure compressor case ice impact panels was reported during engine shop visit.

This condition, if not corrected, could lead to ice impact panel de-bonding, resulting, in case of an impact event and release of particles, in blockage of the outlet guide vane and consequent potential loss of thrust or reduced fan flutter margin.

To address this potential unsafe condition, RRD issued Alert Non Modification Service Bulletin (NMSB) SB-BR700-72-A900281 to provide instructions for a one-time ice impact panel replacement using an improved repair method.

You may examine the MCAI in the AD docket on the Internet at http://www.regulations.gov/#!documentDetail;D=FAA-2013-0884-0002.

Comments

We gave the public the opportunity to participate in developing this AD. We received no comments on the NPRM (78 FR 77382, December 23, 2013).

Conclusion

We reviewed the available data and determined that air safety and the public interest require adopting this AD as proposed.

Costs of Compliance

We estimate that this AD will affect about 232 engines installed on aircraft of U.S. registry. We also estimate that it will take about 24 hours per engine to comply with this AD. The average labor rate is $85 per hour. Required parts will cost about $9,268 per engine. Based on these figures, we estimate the cost of this AD on U.S. operators to be $2,623,456.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-08-05 Rolls-Royce Deutschland Ltd & Co KG (Type Certificate previously held by Rolls-Royce Deutschland GmbH and BMW Rolls-Royce GmbH): Amendment 39-17829; Docket No. FAA-2013-0884; Directorate Identifier 2013-NE-31-AD.

(a) Effective Date

This AD becomes effective May 23, 2014.

(b) Affected ADs

None.

(c) Applicability

This AD applies to all Rolls-Royce Deutschland Ltd & Co KG (RRD) BR700-715A1-30, BR700-715B1-30, and BR700-715C1-30 turbofan engines.

(d) Reason

This AD was prompted by a report of a partial de-bonding of the low-pressure compressor (LPC) case ice impact panels during an engine shop visit. We are issuing this AD to prevent failure of the LPC case ice impact panels, which could result in damage to the engine and loss of control of the airplane.

(e) Actions and Compliance

Unless already done, after the effective date of this AD, at the next engine shop visit or within 12,500 engine flight cycles since the last shop visit, whichever occurs first, replace the four LPC ice impact panels with panels eligible for installation.

(f) Definitions

(1) For the purposes of this AD, an “engine shop visit” is the induction of an engine into the shop for maintenance involving the separation of pairs of major mating engine flanges. The separation of engine flanges solely for the purpose of transportation without subsequent engine maintenance does not constitute an engine shop visit.

(2) For the purposes of this AD, a panel that is “eligible for installation” is a new LPC impact panel or one that has been repaired using RRD Alert Non-Modification Service Bulletin (NMSB) No. ALERT SB-BR700-72-A900281, dated July 1, 2013.

(g) Alternative Methods of Compliance (AMOCs)

The Manager, Engine Certification Office, FAA, may approve AMOCs to this AD. Use the procedures found in 14 CFR 39.19 to make your request.

(h) Related Information

(1) For more information about this AD, contact Rose Len, Aerospace Engineer, Engine Certification Office, FAA, Engine & Propeller Directorate, 12 New England Executive Park, Burlington, MA 01803; phone: 781-238-7772; fax: 781-238-7199; email: rose.len@faa.gov.

(2) Refer to MCAI European Aviation Safety Agency AD 2013-0231, dated September 24, 2013, for more information. You may examine the MCAI in the AD docket on the Internet at http://www.regulations.gov/#!documentDetail;D=FAA-2013-0884-0002.

(3) RRD Alert NMSB No. ALERT SB-BR700-72-A900281, dated July 1, 2013, which is not incorporated by reference in this AD, can be obtained from RRD using the contact information in paragraph (h)(4) of this AD.

(4) For service information identified in this AD, contact Rolls-Royce Deutschland Ltd & Co KG, Eschenweg 11, Dahlewitz, 15827 Blankenfelde-Mahlow, Germany; phone: 49 33-7086-1944; fax: 49 33-7086-3276.

(5) You may view this service information at the FAA, Engine & Propeller Directorate, 12 New England Executive Park, Burlington, MA. For information on the availability of this material at the FAA, call 781-238-7125.

(i) Material Incorporated by Reference

None.

Issued in Burlington, Massachusetts, on April 8, 2014.
Ann C. Mollica,
Acting Assistant Directorate Manager, Engine & Propeller Directorate, Aircraft Certification Service.

[FR Doc. 2014-08733 Filed 4-17-14; 8:45 am]

BILLING CODE 4910-13-P